FEDERAL MARITIME COMMISSION

[Docket No. 25-28]

Cool Living LLC, Complainant v. ALPI U.S.A., Inc. and ALPI Air & Sea A/S, Respondents; Notice of Filing of Complaint and Assignment

Notice is given that a complaint has been filed with the Federal Maritime Commission (the “Commission”) by Cool Living LLC (the “Complainant”) against ALPI U.S.A., Inc. and ALPI Air & Sea A/S (the “Respondents”). Complainant states that the Commission has subject-matter jurisdiction over this Complaint pursuant to the Shipping Act of 1984, 46 U.S.C. 40101, et seq. and personal jurisdiction over Respondents as non-vessel-operating “common carriers” as defined in 46 U.S.C. 40102(7), (17), and (20).

Complainant is a member-managed limited liability company organized and existing under the laws of the state of Delaware with its principal place of business in Barcelona, Spain.

Complainant identifies Respondent ALPI U.S.A., Inc. as a corporation organized under the laws of the state of New York with its principal place of business in Valley Stream, New York.

Complainant identifies Respondent ALPI Air & Sea A/S as a corporation organized under the laws of the country of Denmark with its principal place of business in Herning, Denmark.

Complainant alleges that Respondents violated 46 U.S.C. 41102(c); 41104(a)(2)(A), (a)(4)(E), and (a)(14); and 46 CFR 532.5. Complainant alleges these violations arose from Respondents' opaque rate and invoicing practices, refusal to engage in dispute resolution processes with Complainant, use of coercion by way of cargo holds on unrelated shipments in order to compel payment of disputed charges, and other acts or omissions by Respondents.

An answer to the complaint must be filed with the Commission within 25 days after the date of service.

The full text of the complaint can be found in the Commission's electronic Reading Room at https://www2.fmc.gov/readingroom/proceeding/25-28/. This proceeding has been assigned to the Office of Administrative Law Judges. The initial decision of the presiding judge shall be issued by December 5, 2026, and the final decision of the Commission shall be issued by June 21, 2027.

(Authority: 46 U.S.C. 41301; 46 CFR 502.61(c))

Served: December 5, 2025.
David Eng,
Secretary.

[FR Doc. 2025-22376 Filed 12-8-25; 8:45 am]

BILLING CODE 6730-02-P